DEPARTMENT OF COMMERCE

International Trade Administration

[A-201-853]

Standard Steel Welded Wire Mesh From Mexico: Preliminary Affirmative Determination of Sales at Less Than Fair Value, Postponement of Final Determination, and, Extension of Provisional Measures

AGENCY: Enforcement and Compliance, International Trade Administration, Department of Commerce.

SUMMARY: The Department of Commerce (Commerce) preliminarily determines that standard steel welded wire mesh (wire mesh) from Mexico is being, or is likely to be, sold in the United States at less than fair value (LTFV). The period of investigation (POI) is April 1, 2019, through March 31, 2020. Interested parties are invited to comment on this preliminary determination.

DATES: Applicable February 1, 2021.

FOR FURTHER INFORMATION CONTACT: Alice Maldonado or Melissa Kinter, AD/CVD Operations, Office II, Enforcement and Compliance, International Trade Administration, U.S. Department of Commerce, 1401 Constitution Avenue NW, Washington, DC 20230; telephone: (202) 482-4682 or (202) 482-1413, respectively.

SUPPLEMENTARY INFORMATION:

Background

This preliminary determination is made in accordance with section 733(b) of the Tariff Act of 1930, as amended (the Act). Commerce published the notice of initiation of this investigation on July 27, 2020.¹ On November 18, 2020, Commerce postponed the preliminary determination of this investigation, and the revised deadline is now January 26, 2021.² For a complete description of the events that followed the initiation of this investigation, see the Preliminary Decision Memorandum.³ A list of topics included in the Preliminary Decision Memorandum is included as Appendix II to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at http://enforcement.trade.gov/frn/. The signed and the electronic versions of the Preliminary Decision Memorandum are identical in content.

¹ See Standard Steel Welded Wire Mesh from Mexico: Initiation of Less-Than-Fair-Value Investigation, 85 FR 45167 (July 27, 2020) (Initiation Notice).

² See Standard Steel Welded Wire Mesh from Mexico: Postponement of Preliminary Detremination in the Less-Than-Fair Value Investigation, 85 FR 73459 (November 18, 2020).

³ See Memorandum, “Decision Memorandum for the Preliminary Determination in the Less-Than-Fair-Value Investigation of Standard Steel Welded Wire Mesh from Mexico,” dated concurrently with, and hereby adopted by, this notice (Preliminary Decision Memorandum).

Scope of the Investigation

The products covered by this investigation are wire mesh from Mexico. For a complete description of the scope of this investigation, see Appendix I.

Scope Comments

In accordance with the preamble to Commerce's regulations,⁴ the Initiation Notice set aside a period of time for parties to raise issues regarding product coverage (i.e., scope).⁵ Certain interested parties commented on the scope of the investigation as it appeared in the Initiation Notice. For a summary of the product coverage and rebuttal comments submitted on the record for this investigation, see the Preliminary Decision Memorandum.⁶ Commerce has not modified the scope language as it appeared in the Initiation Notice.

⁴ See Antidumping Duties; Countervailing Duties, Final Rule, 62 FR 27296, 27323 (May 19, 1997).

⁵ See Initiation Notice.

⁶ See Preliminary Decision Memorandum.

Methodology

Commerce is conducting this investigation in accordance with section 731 of the Act. Commerce has calculated constructed export prices in accordance with section 772(b) of the Act. Normal value is calculated in accordance with section 773 of the Act. Furthermore, pursuant to section 776(a) and (b) of the Act, Commerce has preliminarily relied upon facts otherwise available with adverse inferences for Deacero S.A.P.I. de C.V. (Deacero). For a full description of the methodology underlying the preliminary determination, see the Preliminary Decision Memorandum.

All-Others Rate

Sections 733(d)(1)(ii) and 735(c)(5)(A) of the Act provide that, in the preliminary determination, Commerce shall determine an estimated all-others rate for all exporters and producers not individually examined. This rate shall be an amount equal to the weighted average of the estimated weighted-average dumping margins established for exporters and producers individually investigated, excluding any zero and de minimis margins, and any margins determined entirely under section 776 of the Act.

In this investigation, Commerce preliminarily assigned a rate based entirely on adverse facts available (AFA) to Deacero. Therefore, the only rate that is not zero, de minimis or based entirely on adverse facts otherwise available is the rate calculated for Aceromex, S.A. de C.V. (Aceromex). Consequently, the rate calculated for Aceromex is also assigned as the rate for all-other producers and exporters.

Preliminary Determination

Commerce preliminarily determines that the following estimated weighted-average dumping margins exist:

⁷ In the companion countervailing duty (CVD) investigation, Commerce calculated a 1.02 percent export subsidy rate for Aceromex and for all other producers and exporters under the program “Eighth Rule Permit Program.” See Standard Steel Welded Wire Mesh from Mexico: Preliminary Affirmative Countervailing Duty Determination, 85 FR 78124 (December 3, 2020), and accompanying Preliminary Decision Memorandum at 14-18. Because we determined the LTFV all-others rate based on Aceromex's estimated weighted-average dumping margin, the export subsidy offset for all other producers and exporters is the lesser of the export subsidy rate for Aceromex and the export subsidy rate for all other producers and exporters in the CVD preliminary determination (i.e., 1.02 percent). The cash deposit rate for Deacero is equal to the petition rate (152.68 percent) adjusted for the lowest rate of export subsidies found for any company in the most recently-completed segment in the companion countervailing duty proceeding (i.e., 1.02 percent related to the Eighth Rule Permit Program).

Exporter/producer | Estimated weighted- average dumping margin (percent) | Cash deposit rate (adjusted for subsidy offset(s)) (percent) ⁷
Aceromex, S.A. de C.V | 23.67 | 22.65
Deacero S.A.P.I. de C.V | * 152.68 | 151.66
All Others | 23.67 | 22.65
* AFA

Suspension of Liquidation

In accordance with section 733(d)(2) of the Act, Commerce will direct U.S. Customs and Border Protection (CBP) to suspend liquidation of entries of subject merchandise, as described in Appendix I, entered, or withdrawn from warehouse, for consumption on or after the date of publication of this notice in the Federal Register. Further, pursuant to section 733(d)(1)(B) of the Act and 19 CFR 351.205(d), Commerce will instruct CBP to require a cash deposit equal to the estimated weighted-average dumping margin or the estimated all-others rate, as follows: (1) The cash deposit rate for the respondents listed above will be equal to the company-specific estimated weighted-average dumping margins determined in this preliminary determination; (2) if the exporter is not a respondent identified above, but the producer is, then the cash deposit rate will be equal to the company-specific estimated weighted-average dumping margin established for that producer of the subject merchandise; and (3) the cash deposit rate for all other producers and exporters will be equal to the all-others estimated weighted-average dumping margin.

Commerce normally adjusts cash deposits for estimated antidumping duties by the amount of export subsidies countervailed in a companion countervailing duty (CVD) proceeding, when CVD provisional measures are in effect. Accordingly, where Commerce preliminarily made an affirmative determination for countervailable export subsidies, Commerce has offset the estimated weighted-average dumping margin by the appropriate CVD rate. Any such adjusted cash deposit rate may be found in the Preliminary Determination section above.

Should provisional measures in the companion CVD investigation expire prior to the expiration of provisional measures in this LTFV investigation, Commerce will direct CBP to begin collecting estimated antidumping duty cash deposits unadjusted for countervailed export subsidies at the time that the provisional CVD measures expire. These suspension of liquidation instructions will remain in effect until further notice.

Disclosure

Commerce intends to disclose its calculations and analysis performed to interested parties in this preliminary determination within five days of any public announcement or, if there is no public announcement, within five days of the date of publication of this notice in accordance with 19 CFR 351.224(b).

Verification

As provided in section 782(i)(1) of the Act, Commerce intends to verify the information relied upon in making its final determination. Normally, Commerce verifies information using standard procedures, including an on-site examination of original accounting, financial, and sales documentation. However, due to current travel restrictions in response to the global COVID-19 pandemic, Commerce is unable to conduct on-site verification in this investigation. Accordingly, we intend to verify the information relied upon in making the final determination through alternative means in lieu of an on-site verification.

Public Comment

Case briefs or other written comments may be submitted to the Assistant Secretary for Enforcement and Compliance. A timeline for the submission of case briefs and written comments will be notified to interested parties at a later date. Rebuttal briefs, limited to issues raised in case briefs, may be submitted no later than seven days after the deadline date for case briefs.⁸ Note that Commerce has temporarily modified certain of its requirements for serving documents containing business proprietary information, until further notice.⁹ Pursuant to 19 CFR 351.309(c)(2) and (d)(2), parties who submit case briefs or rebuttal briefs in this investigation are encouraged to submit with each argument: (1) A statement of the issue; (2) a brief summary of the argument; and (3) a table of authorities.

⁸ See 19 CFR 351.309; see also 19 CFR 351.303 (for general filing requirements).

⁹ See Temporary Rule Modifying AD/CVD Service Requirements Due to COVID-19, 85 FR 17006 (March 26, 2020) (Temporary Rule); and Temporary Rule Modifying AD/CVD Service Requirements Due to COVID-19; Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at a time and date to be determined. Parties should confirm by telephone the date, time, and location of the hearing two days before the scheduled date.

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioner. Section 351.210(e)(2) of Commerce's regulations requires that a request by exporters for postponement of the final determination be accompanied by a request for extension of provisional measures from a four-month period to a period not more than six months in duration.

On January 13, 2021, and January 21, 2021 pursuant to 19 CFR 351.210(e), Insteel Industries Inc., Mid South Wire Company, National Wire LLC, Oklahoma Steel & Wire Co., and Wire Mesh Corp. (the petitioners) and Aceromex requested that Commerce postpone the final determination and that provisional measures be extended to a period not to exceed six months.¹⁰ In accordance with section 735(a)(2)(A) of the Act and 19 CFR 351.210(b)(2)(ii), because: (1) The preliminary determination is affirmative; (2) the requesting exporter accounts for a significant proportion of exports of the subject merchandise; and (3) no compelling reasons for denial exist, Commerce is postponing the final determination and extending the provisional measures from a four-month period to a period not greater than six months. Accordingly, Commerce will make its final determination no later than 135 days after the date of publication of this preliminary determination.

¹⁰ See Petitioners' Letter, “Standard Steel Welded Wire Mesh from Mexico—Petitioners' Request for Postponement of Final Antidumping Determination,” dated January 13, 2021; see also Aceromex's Letter, “Standard Steel Welded Wire Mesh from Mexico: Aceromex's Request to Extend the Due Date for the Final Determination,” dated January 21, 2021.

International Trade Commission Notification

In accordance with section 733(f) of the Act, Commerce will notify the International Trade Commission (ITC) of its preliminary determination. If the final determination is affirmative, the ITC will determine before the later of 120 days after the date of this preliminary determination or 45 days after the final determination whether these imports are materially injuring, or threaten material injury to, the U.S. industry.

Notification to Interested Parties

This determination is issued and published in accordance with sections 733(f) and 777(i)(1) of the Act and 19 CFR 351.205(c).

Dated: January 26, 2020.
Christian Marsh,
Acting Assistant Secretary for Enforcement and Compliance.

Appendix I—Scope of the Investigation

The merchandise covered by this investigation is uncoated standard welded steel reinforcement wire mesh (wire mesh) produced from smooth or deformed wire. Subject wire mesh is produced in square and rectangular grids of uniformly spaced steel wires that are welded at all intersections. Sizes are specified by combining the spacing of the wires in inches or millimeters and the wire cross-sectional area in hundredths of square inch or millimeters squared. Subject wire mesh may be packaged and sold in rolls or in sheets.

Subject wire mesh is currently produced to ASTM specification A1064/A1064M, which covers carbon-steel wire and welded wire reinforcement, smooth and deformed, for concrete in the following seven styles:

1. 6 X 6 W1.4/W1.4 or D1.4/D1.4

2. 6 X 6 W2.1/W2.1 or D2.1/D2.1

3. 6 X 6 W2.9/W2.9 or D2.9/D2.9

4. 6 X 6 W4/W4 or D4/D4

5. 6 X 12 W4/W4 or D4/D4

6. 4 X 4 W2.9/W2.9 or D2.9/D2.9

7. 4 X 4 W4/W4 or D4/D4

The first number in the style denotes the nominal spacing between the longitudinal wires and the second number denotes the nominal spacing between the transverse wires. In the first style listed above, for example, “6 X 6” denotes a grid size of six inches by six inches. “W” denotes the use of smooth wire, and “D” denotes the use of deformed wire in making the mesh. The number following the W or D denotes the nominal cross-sectional area of the transverse and longitudinal wires in hundredths of a square inch (i.e., W1.4 or D1.4 is .014 square inches).

Smooth wire is wire that has a uniform cross-sectional diameter throughout the length of the wire.

Deformed wire is wire with indentations or raised transverse ribs, which results in wire that does not have a uniform cross-sectional diameter throughout the length of the wire.

Rolls of subject wire mesh are produced in the following styles and nominal width and length combinations:

Style: 6 X 6 W1.4/W1.4 or D1.4/D1.4 (i.e., 10 gauge)

Roll Sizes:

5′ X 50′

5′ X 150′

6′ X 150′

5′ X 200′

7′ X 200′

7.5′ X 200′

Style: 6 X 6 W2.1/W2.1 or D2.1/D2.1 (i.e., 8 gauge)

Roll Sizes:

5′ X 150′

Style: 6 X 6 W2.9/W2.9 or D2.9/D2.9 (i.e., 6 gauge)

Roll Sizes:

5′ X 150′

7′ X 200′

All rolled wire mesh is included in scope regardless of length.

Sheets of subject wire mesh are produced in the following styles and nominal width and length combinations:

Style: 6 X 6 W1.4/W1.4 or D1.4/D1.4 (i.e., 10 gauge)

Sheet Size:

3′6″ X 7′

4′ X 7′

4′ X 7′6″

5′ X 10′

7′ X 20′

7′6″ X 20′

8′ X 12′6″

8′ X 15′

8′ X 20′

Style: 6 X 6 W2.1/W2.1 or D2.1/D2.1 (i.e., 8 gauge)

Sheet Size: 5′ X 10′

7′ X 20′

7′6″ X 20′

8′ X 12′6″

8′ X 15′

8′ X 20′

Style: 6 X 6 W2.9/W2.9 or D2.9/D2.9 (i.e., 6 gauge)

Sheet Size:

3′6″ X 20′

5′ X 10′

7′ X 20′

7′6″ X 20′

8′ X 12′6″

8′ X 15′

8′ X 20′

Style: 6 X 12 W4/W4 or D4/D4 (i.e., 4 gauge)

Sheet Size: 8′ X 20′

Style: 4 X 4 W2.9/W2.9 or D2.9/D2.9 (i.e., 6 gauge)

Sheet Size:

5′ X 10′

7′ X 20′

7′6″ X 20′

8′ X 12′6″

8′ X 12′8″

8′ X 15′

8′ X 20′

Style: 4 X 4 W4/W4 or D4/D4 (i.e., 4 gauge)

Sheet Size:

5′ X 10′

8′ X 12′6″

8′ X 12′8″

8′ X 15′

8′ X 20′

Any product imported, sold, or invoiced in one of these size combinations is within the scope.

ASTM specification A1064/A1064M provides for permissible variations in wire gauges, the spacing between transverse and longitudinal wires, and the length and width combinations. To the extent a roll or sheet of welded wire mesh falls within these permissible variations, it is within this scope.

ASTM specification A1064/A1064M also defines permissible oversteeling, which is the use of a heavier gauge wire with a larger cross-sectional area than nominally specified. It also permits a wire diameter tolerance of ± 0.003 inches for products up to W5/D5 and ± 0.004 for sizes over W5/D5. A producer may oversteel by increasing smooth or deformed wire diameter up to two whole number size increments on Table 1 of A1064. Subject wire mesh has the following actual wire diameter ranges, which account for both oversteeling and diameter tolerance:

W/D No. | Maximum oversteeling No. | Diameter range (inch)
1.4 (i.e., 10 gauge) | 3.4 | 0.093 to 0.211.
2.1 (i.e., 8 gauge) | 4.1 | 0.161 to 0.231.
2.9 (i.e., 6 gauge) | 4.9 | 0.189 to 0.253.
4.0 (i.e., 4 gauge) | 6.0 | 0.223 to 0.280.

To the extent a roll or sheet of welded wire mesh falls within the permissible variations provided above, it is within this scope.

In addition to the tolerances permitted in ASTM specification A1064/A1064M, wire mesh within this scope includes combinations where:

1. A width and/or length combination varies by ± one grid size in any direction, i.e., ± 6 inches in length or width where the wire mesh's grid size is “6 X 6”; and/or

2. The center-to-center spacing between individual wires may vary by up to one quarter of an inch from the nominal grid size specified.

Length is measured from the ends of any wire and width is measured between the center-line of end longitudinal wires.

Additionally, although the subject wire mesh typically meets ASTM A1064/A1064M, the failure to include certifications, test reports or other documentation establishing that the product meets this specification does not remove the product from the scope. Wire mesh made to comparable foreign specifications (e.g., DIN, JIS, etc.) or proprietary specifications is included in the scope.

Excluded from the scope is wire mesh that is galvanized (i.e., coated with zinc) or coated with an epoxy coating. In order to be excluded as galvanized, the excluded welded wire mesh must have a zinc coating thickness meeting the requirements of ASTM specification A641/A641M. Epoxy coating is a mix of epoxy resin and hardener that can be applied to the surface of steel wire.

Merchandise subject to this investigation are classified under Harmonized Tariff Schedule of the United States (HTSUS) categories 7314.20.0000 and 7314.39.0000. While HTSUS subheadings are provided for convenience and customs purposes, the written description of the scope of this investigation is dispositive.

Appendix II—List of Topics Discussed in the Preliminary Decision Memorandum

I. Summary

II. Background

III. Period of Investigation

IV. Scope Comments

V. Scope of the Investigation

VI. Application of Facts Available, Use of Adverse Inferenes, and Calculation of All-Others Rate

VII. Discussion of the Methodology

A. Determination of the Comparison Method

B. Results of the Differential Pricing Analysis

VIII. Date of Sale

IX. Product Comparisons

X. Constructed Export Price

XI. Normal Value

A. Home Market Viability

B. Affiliated-Party Transactions and Arm's Length Test

C. Level of Trade

D. Cost of Production (COP) Analysis

1. Calculation of COP

2. Test of Comparison Market Sales Prices

3. Results of the COP Test

XII. Currency Conversion

XIII. Recommendation

[FR Doc. 2021-02079 Filed 1-29-21; 8:45 am]

BILLING CODE 3510-DS-P